DEPARTMENT OF ENERGY

Federal Energy Regulatory Commission

[Project No. 13102-001]

Birch Power Company; Notice of Intent To File License Application, Filing of Pre-Application Document, and Approving Use of the Traditional Licensing Process

a. Type of Filing: Notice of Intent to File License Application and Request to Use the Traditional Licensing Process.

b. Project No.: 13102-001.

c. Dated Filed: February 2, 2011.

d. Submitted by: Birch Power Company.

e. Name of Project: Demopolis Lock and Dam Hydroelectric Project.

f. Location: On the Tombigbee River, in Marengo and Sumter Counties, Alabama. The project would occupy United States land, administered by the U.S. Army Corps of Engineers, for a transmission line and other ancillary facilities.

g. Filed Pursuant to: 18 CFR 5.3 of the Commission's regulations

h. Potential Applicant Contact: Nicholas E. Josten, 2742 Saint Charles Avenue, Idaho Falls, ID 83404; (208) 528-6152; e-mail—gsense@cableone.net

i. FERC Contact: Jennifer Adams at (202) 502-8087; or e-mail at jennifer.adams@ferc.gov.

j. Birch Power Company filed its request to use the Traditional Licensing Process on February 1, 2011. Birch Power Company provided public notice of its request on February 5, 2011. In a letter dated March 25, 2011, the Director of the Office of Energy Projects approved Birch Power Company's request to use the Traditional Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Alabama State Historic Preservation Officer, as required by section 106, National Historical Preservation Act, and the implementing regulations of the Advisory Council on Historic Preservation at 36 CFR 800.2.

l. Birch Power Company filed a Pre-Application Document (PAD; including a proposed process plan and schedule) with the Commission, pursuant to 18 CFR 5.6 of the Commission's regulations.

m. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via e-mail of new filing and issuances related to this or other pending projects. For assistance, contact FERC Online Support.

Dated: March 25, 2011.
Kimberly D. Bose,
Secretary.

[FR Doc. 2011-7684 Filed 3-31-11; 8:45 am]

BILLING CODE 6717-01-P